FEDERAL TRADE COMMISSION

16 CFR Part 437

[Project No. R511993]

RIN 3084-AB04

Business Opportunity Rule

AGENCY: Federal Trade Commission.

ACTION: Extension of period to submit rebuttal comments in response to the Revised Notice of Proposed Rulemaking.

SUMMARY: In a Federal Register notice published on March 26, 2008,¹ the FTC requested comment on its Revised Notice of Proposed Rulemaking (“RNPR” or “Notice”) in connection with the Business Opportunity Rule. The Notice stated that comments must be submitted on or before May 27, 2008, and that rebuttal comments must be submitted on or before June 16, 2008. In response to a request to extend the rebuttal comment period received on June 5, 2008, the Commission has extended the rebuttal comment period for an additional 15 days.

¹ The Notice was announced in a press release on March 18, 2008, available at: (http://www.ftc.gov/opa/2008/03/busrule.shtm) (“Press Release”).

DATES: Rebuttal comments addressing the Revised Notice of Proposed Rulemaking published at 73 FR 16110 for the Business Opportunity Rule must be submitted on or before July 1, 2008.

ADDRESSES: Interested parties are invited to submit written rebuttal comments. Comments should refer to “Business Opportunity Rule: File No. R511993” and may be submitted by any of the following methods. If, however, the comment contains any material for which confidential treatment is requested, it must be filed in paper form, and the first page of the document must be clearly labeled “Confidential.”²

² The comment must be accompanied by an explicit request for confidential treatment, including the factual and legal basis for the request, and must identify the specific portions of the comment to be withheld from the public record. The request will be granted or denied by the Commission’s General Counsel, consistent with applicable law and the public interest. See Commission Rule 4.9(c), 16 C.F.R 4.9(c) (2008).

1. Web Site: Comments filed in electronic form should be submitted by using the following web link: (https://secure.commentworks.com/ftc-bizopRNPR/) and following the instructions on the web-based form. To ensure that the Commission considers an electronic comment, you must file it on the web-based form at the weblink (https://secure.commentworks.com/ftc-bizopRNPR/). If this notice appears at http://www.regulations.gov, you may also file an electronic comment through that website. The Commission will consider all comments that regulations.gov forwards to it. You may also visit the FTC website at (http://www.ftc.gov/opa/2008/03/busrule.shtm) to read the RNPR and the news release describing it.

2. Mail or Hand Delivery: A comment filed in paper form should include “Business Opportunity Rule: File No. R511993“ both in the text and on the envelope, and should be mailed or delivered to the following address: Federal Trade Commission/Office of the Secretary, Room H-135 (Annex S), 600 Pennsylvania Avenue, NW, Washington, DC 20580. The Commission is requesting that any comment filed in paper form be sent by courier or overnight service, if possible.

The FTC Act and other laws the Commission administers permit the collection of public comments to consider and use in this proceeding as appropriate. All timely and responsive public comments will be considered by the Commission and will be available to the public on the FTC website, to the extent practicable, at http://www.ftc.gov. As a matter of discretion, the FTC makes every effort to remove home contact information for individuals from the public comments it receives before placing those comments on the FTC website. More information, including routine uses permitted by the Privacy Act, may be found in the FTC’s privacy policy, at (http://www.ftc.gov/ftc/privacy.shtm).

FOR FURTHER INFORMATION CONTACT: Monica Vaca (202) 326-2245, Division of Marketing Practices, Room 286, Bureau of Consumer Protection, Federal Trade Commission, 600 Pennsylvania Avenue, NW, Washington, DC 20580.

SUPPLEMENTARY INFORMATION: On March 26, 2008, the Commission published a Revised Notice of Proposed Rulemaking (“RNPR” or “Notice”), 73 FR 16110, which solicited comment on a revised proposal for the Business Opportunity Rule. The Notice stated that the period for submitting initial comments on this proposal would close on May 27, 2008, and that the period for submitting rebuttal comments would close on June 16, 2008.

On June 5, 2008, the Commission received a request from Venable LLP (“Venable”) seeking a 30-day extension of the rebuttal comment period. In support of its extension request, Venable argues that there were numerous substantive comments submitted in the initial comment period that merit rebuttal. Nevertheless, the bulk of the initial comments were submitted on the last day of the comment period and were unavailable for public viewing for about one week after the comment period closed. Thus, Venable seeks an extension.

The Commission believes that a 15-day extension should be sufficient to enable Venable and all other commenters to prepare and submit rebuttal comments without unduly delaying the progress of this proceeding. Accordingly, the Commission has determined to extend the rebuttal comment period until July 1, 2008.

By direction of the Commission.
Donald S. Clark,
Secretary.

[FR Doc. E8-13899 Filed 6-18-08: 8:45 am]

BILLING CODE 6750-01-S